DEPARTMENT OF TRANSPORTATION

Federal Aviation Administration

14 CFR Part 73

[Docket No. FAA-2003-16722; Airspace Docket No. 03-AWP-19]

RIN 2120-AA66

Establishment of Restricted Area 2503D; Camp Pendleton, CA

AGENCY: Federal Aviation Administration (FAA), DOT.

ACTION: Final rule.

SUMMARY: This action establishes a Restricted Area 2503D (R-2503D) at Camp Pendleton, CA. Specifically, this action converts the current San Onofre High and Low Military Operations Areas (MOAs) and the associated Controlled Firing Area (CFA) to R-2503D. The FAA is taking this action to assist the Camp Pendleton U.S. Marine Corps (USMC) Base, CA, mission to provide realistic fleet training requirements and enhance safety.

EFFECTIVE DATE: 0901 UTC, November 25, 2004.

FOR FURTHER INFORMATION CONTACT: Ken McElroy, Airspace and Rules, Office of System Operations and Safety, Federal Aviation Administration, 800 Independence Avenue, SW., Washington,DC 20591; telephone: (202) 267-8783.

SUPPLEMENTARY INFORMATION

History

On March 26, 2004, the FAA published in the Federal Register a notice proposing to establish R-2503D at Camp Pendleton, CA (69 FR 15746). Interested parties were invited to participate in this rulemaking effort by submitting written comments on the proposal. In response to the notice, the FAA received twenty written comments. All comments received were considered before making a determination on the final rule. An analysis of the comments received and the FAA's responses are summarized in the “Discussion of Comments” section.

Discussion of Comments

The Aircraft Owners and Pilots Association (AOPA) endorsed the proposal stating the overall impact of the proposed changes would be less severe than the impact of the current MOA for most general aviation (GA) pilots. However, if the use of the area exceeds the times of use stated in the proposal, no more than twenty days per year from 0600 to 2400, they would withdraw their support.

The FAA agrees with the AOPA comments. In order for operations to exceed the times stated in the proposal, further rulemaking actions would be required.

Several commentors stated that the boundary description was not clear enough for pilots to determine when they are clear of the proposed airspace.

The FAA agrees with the comments concerning the boundary description. To assist visual flight rules (VFR) pilots, the San Diego VFR Terminal Area Chart will be amended to include waypoints and radial (DME), depicting the correct lateral distance from the shore line.

The Orange County Pilots Association suggested that the proposal be modified to establish a corridor along Interstate 5 to allow normal operations on Victor 23 (V-23).

The FAA does not agree. A VFR corridor along Interstate 5 would not permit normal operations on V-23. The restricted area will be managed on a real-time basis to minimize the impact on normal operations. Southern California TRACON (SCT) will be the designated controlling agency for the restricted area. The SCT has dedicated direct landlines with the Marine air traffic controllers who have the authority to allow transit through the area in accordance with a letter of procedure between SCT and the Marine Corps.

Several commentors stated that they will be forced further from the shoreline over the water during the activation of the restricted area.

Currently, during MOA activations, a majority of transitioning VFR pilots contact SCT for flight following and receive vectors around the MOA airspace. They are vectored three miles offshore. With the new R-2503D, vectors will only be one mile offshore. Further, a pilot can contact Camp Pendleton's Radar Air Traffic Control Facility (RATCF) “Longrifle” on 123.2/301.9 and request transition through R-2503D. When conditions do not permit a transition through the area and the pilot is required to circumnavigate the area, it is approximately 1 nautical mile (NM) offshore to remain clear of the airspace. Instrument flight plans (IFR) aircraft are vectored to remain clear of the lateral boundaries of the MOA by three miles. This change will reduce the lateral distance offshore for IFR aircraft from 6 NM to 4 NM.

Several comments were received concerning the restricted area impact on IFR operations for both Oceanside and Carlsbad (McClellan-Palomar) airports.

Pilots operating on IFR will not experience any additional impact from the restricted area. Procedures utilized for IFR operations during activation of the current MOA's will remain in use. Instrument procedures into Oceanside airport, McClellan-Palomar airport, and holding over the Oceanside VORTAC are addressed in a Letter of Procedure between the SCT and the Military Air Traffic Control Facility facilitating real time use of the airspace.

Two comments were received concerning a lack of public notice on the proposal.

Formal briefings were provided to the San Diego Airspace Users Group and Southern California Airspace Users Working Group on March 6, 2003, and April 6, 2003. A formal briefing was also provided to AOPA on May 7, 2003. Discussion of the proposal was also added to regularly scheduled aviation safety briefings to the public via coordination with area Flight Standards District Offices.

The FAA believes that the real-time procedures for the airspace, and limited use twenty days per year between 0600 to 2400 hours should minimize the impact on aviation operations.

With the exception of editorial changes, this amendment is the same as that proposed in the notice.

The Rule

The FAA is amending Title 14 Code of Federal Regulations (14 CFR) part 73 (part 73) to establish R-2503D, Camp Pendleton, CA. The USMC requested this change because the existing special use airspace did not permit essential large-scale amphibious assault activities (including artillery live-fire, fixed-wing close air support, and remotely operated aircraft operations). The time of designation for R-2503D will be intermittent by NOTAM 24 hours in advance; limited to a maximum use of 20 days per year from 0600 to 2400 hours local time; and no more than 90 days per year between 0001 and 0600 local time. The restricted area is available for joint-use and is scheduled for training operations on an as needed basis subject to the maximum use limits.

This action amends 14 CFR Section 73 of the Federal Aviation Regulations that were republished in FAA Order 7400.8L dated October 7, 2003.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

Pursuant to Section 102(2) of the National Environmental Policy Act of 1969 (NEPA), the Council on Environmental Quality (CEQ) regulations implementing NEPA (40 CFR Parts 1500-1508), and other applicable law, the FAA conducted an independent review of the U.S. Marine Corps Final Environmental Assessment (FEA) for New Restricted Airspace at Marine Corps Base, Camp Pendleton, CA, dated August 2003. The FAA adopted the FEA and prepared a Finding of No Significant Impact (FONSI)/Record of Decision (ROD) dated March 2004. The FONSI/ROD analyzed the modification of Special Use Airspace at Marine Corps Base Camp Pendleton California and establishment of the restricted area to support training. This final rule, which establishes a new restricted area, will not result in significant environmental impacts.

List of Subjects in 14 CFR Part 73

Airspace, Navigation (air).

Adoption of the Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.25 [Amended]

2. § 73.25 is amended as follows:

* * * * *

R-2503D Camp Pendleton, CA (Added)

Boundaries. Beginning at lat. 33°22′42″ N.; long. 117°36′45″ W.; to lat. 33°27′13″ N.; long. 117°34′17″ W.; to lat. 33°18′41″ N.; long. 117°23′58″ W.; to lat. 33°17′30″ N.; long. 117°16′43″ W.; to lat. 33°14′09″ N.; long. 117°26′38″ W.; to the point of the beginning by following a line 1 NM from and parallel to the shoreline.

Designated altitudes. 2,000 feet MSL to 11,000 feet MSL.

Time of designation. Intermittent by NOTAM 24 hours in advance not to exceed 20 days per year from 0600 to 2400 local time and not more than 90 days per year between 0001 and 0600 local.

Controlling agency. FAA, Southern California TRACON.

Using agency. U.S. Marine Corps, Commanding General, MCB Camp Pendleton, CA.

* * * * *

Issued in Washington, DC, August 27, 2004.
Reginald C. Matthews,
Manager, Airspace and Rules.

[FR Doc. 04-20173 Filed 9-2-04; 8:45 am]

BILLING CODE 4910-13-P